DEPARTMENT OF ENERGY

Federal Energy Regulatory Commission

Combined Notice of Filings# 1

Take notice that the Commission received the following electric corporate filings:

Docket Numbers: EC14-58-000.

Applicants: Florida Power & Light Company.

Description: Application for Authorization Under Section 203 of the Federal Power Act and Request for Expedited Action of Florida Power & Light Company.

Filed Date: 2/18/14.

Accession Number: 20140218-5277.

Comments Due: 5 p.m. ET 3/11/14.

Take notice that the Commission received the following electric rate filings:

Docket Numbers: ER10-2290-002; ER10-2187-001.

Applicants: Avista Corporation, Spokane Energy, LLC.

Description: Second Amendment to July 1, 2013 Triennial Market Power Update for the Northwest Region of the Avista Corporation, et al.

Filed Date: 2/6/14.

Accession Number: 20140206-5148.

Comments Due: 5 p.m. ET 2/27/14.

Docket Numbers: ER11-1858-002; ER11-1859-001.

Applicants: NorthWestern Corporation, Montana Generation, LLC.

Description: NorthWestern Corporation submits an update to the market power analysis that was submitted on July 1, 2013.

Filed Date: 2/10/14.

Accession Number: 20140211-0013.

Comments Due: 5 p.m. ET 3/3/14.

Docket Numbers: ER12-1813-003.

Applicants: The Empire District Electric Company.

Description: Amendment to Compliance Filing to be effective 1/1/2013.

Filed Date: 2/12/14.

Accession Number: 20140212-5104.

Comments Due: 5 p.m. ET 3/5/14.

Docket Numbers: ER14-124-001.

Applicants: Entergy Arkansas, Inc.

Description: EAI Compliance ER14-124 2-19-2014 to be effective 12/19/2013.

Filed Date: 2/19/14.

Accession Number: 20140219-5020.

Comments Due: 5 p.m. ET 3/12/14.

Docket Numbers: ER14-129-001.

Applicants: Entergy Gulf States Louisiana, L.L.C.

Description: EGSL Compliance ER14-129 2-19-2014 to be effective 12/19/2013.

Filed Date: 2/19/14.

Accession Number: 20140219-5066.

Comments Due: 5 p.m. ET 3/12/14.

Docket Numbers: ER14-456-001.

Applicants: PJM Interconnection, L.L.C.

Description: Deficiency Filing per 1/17/2014 Order in Docket No. ER14-456. to be effective 1/22/2014.

Filed Date: 2/18/14.

Accession Number: 20140218-5247.

Comments Due: 5 p.m. ET 3/11/14.

Docket Numbers: ER14-865-001.

Applicants: Southwestern Public Service Company.

Description: 2-19-14_MBR Tariff—Rv Filing to be effective 3/1/2014.

Filed Date: 2/19/14.

Accession Number: 20140219-5154.

Comments Due: 5 p.m. ET 2/26/14.

Docket Numbers: ER14-1333-000.

Applicants: Virginia Electric and Power Company.

Description: Rate Schedule No. 102—NCEMPA to be effective 2/19/2014.

Filed Date: 2/18/14.

Accession Number: 20140218-5201.

Comments Due: 5 p.m. ET 3/11/14.

Docket Numbers: ER14-1334-000.

Applicants: Avista Corporation.

Description: Avista Corp FERC Electric Tariff Vol No 11 Revisions to be effective 4/17/2014.

Filed Date: 2/18/14.

Accession Number: 20140218-5244.

Comments Due: 5 p.m. ET 3/11/14.

Docket Numbers: ER14-1336-000.

Applicants: ISO New England Inc.

Description: ISO New England Inc. submits Resource Termination of D.C.AM Commonwealth of MA.

Filed Date: 2/19/14.

Accession Number: 20140219-5028.

Comments Due: 5 p.m. ET 3/12/14.

Docket Numbers: ER14-1337-000.

Applicants: ISO New England Inc.

Description: ISO New England Inc. submits Resource Termination of Hess Energy Marketing, LLC.

Filed Date: 2/19/14.

Accession Number: 20140219-5030.

Comments Due: 5 p.m. ET 3/12/14.

Docket Numbers: ER14-1338-000.

Applicants: ISO New England Inc.

Description: ISO New England Inc. submits Resource Termination of Next Era Power Marketing.

Filed Date: 2/19/14.

Accession Number: 20140219-5031.

Comments Due: 5 p.m. ET 3/12/14.

Docket Numbers: ER14-1339-000.

Applicants: ISO New England Inc.

Description: ISO New England Inc. submits Resource Termination of Constellation New Energy, Inc.

Filed Date: 2/19/14.

Accession Number: 20140219-5033.

Comments Due: 5 p.m. ET 3/12/14.

Docket Numbers: ER14-1340-000.

Applicants: Midcontinent Independent System Operator, Inc.

Description: 2014-02-19_SA 2527 ITC-Consumers Amended GIA (J161) to be effective 2/20/2014.

Filed Date: 2/19/14.

Accession Number: 20140219-5137.

Comments Due: 5 p.m. ET 3/12/14.

Docket Numbers: ER14-1341-000.

Applicants: Solea Energy, LLC.

Description: Initial MBR Tariff Filing to be effective 3/1/2014.

Filed Date: 2/19/14.

Accession Number: 20140219-5153.

Comments Due: 5 p.m. ET 3/12/14.

Docket Numbers: ER14-1342-000.

Applicants: Midway Peaking, LLC.

Description: Notice of Succession to be effective 2/20/2014.

Filed Date: 2/19/14.

Accession Number: 20140219-5159.

Comments Due: 5 p.m. ET 3/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2014.
Nathaniel J. Davis, Sr.,
Deputy Secretary.

[FR Doc. 2014-04233 Filed 2-26-14; 8:45 am]

BILLING CODE 6717-01-P